DEPARTMENT OF TRANSPORTATION

Federal Aviation Administration

Notice of Intent To Rule on Change in Use of Aeronautical Property at Immokalee Regional Airport

AGENCY: Federal Aviation Administration (FAA), DOT.

ACTION: Request for public comment.

SUMMARY: The Federal Aviation Administration is requesting public comment on a request by the Collier County Airport Authority to change a portion of airport property from aeronautical to non-aeronautical use at the Immokalee Regional Airport, Immokalee, Florida. The request consists of approximately 5,200 square feet of warehouse space.

Documents reflecting the Sponsor's request are available, by appointment only, for inspection at the Immokalee Regional Airport and the FAA Airports District Office.

DATES: Comments are due on or before May 24, 2017.

ADDRESSES: Documents are available for review at Immokalee Regional Airport, and the FAA Airports District Office, 5950 Hazeltine National Drive, Suite 400, Orlando, FL 32822. Written comments on the Sponsor's request must be delivered or mailed to: Pedro Blanco, Community Planner, Orlando Airports District Office, 5950 Hazeltine National Drive, Suite 400, Orlando, FL 32822-5024.

FOR FURTHER INFORMATION CONTACT: Pedro Blanco, Community Planner, Orlando Airports District Office, 5950 Hazeltine National Drive, Suite 400, Orlando, FL 32822-5024. Telephone number (407) 812-6331.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

The following is a brief overview of the request:

The Collier County Airport Authority is proposing to release approximately 5,200 square feet of warehouse space, owned by the authority, located at 170 Airpark Blvd., Units A & B at Immokalee Regional Airport. This project will allow Collier County to receive grant funding from the US Economic Development Administration (EDA) to renovate and improve both an existing and currently vacant warehouse for culinary-related businesses. The Collier County Airport Authority has approved of this action and has agreed to rent payments set at Fair Market Value of $6 per square foot annually, plus fees at $2,637.00 per month.

Bart Vernace,
Manager, Orlando Airports District Office, Southern Region.

[FR Doc. 2017-08235 Filed 4-21-17; 8:45 am]

BILLING CODE 4910-13-P